DEPARTMENT OF ENERGY

Federal Energy Regulatory Commission

[Docket No. RP03-341-000]

Dominion Cove Point LNG, LP; Notice of Proposed Changes to FERC Gas Tariff

April 16, 2003.

Take notice that on April 14, 2003, Dominion Cove Point LNG, LP (Dominion Cove Point), formerly Cove Point LNG Limited Partnership, tendered for filing as part of its FERC Gas Tariff, Original Volume No. 1, the tariff sheets attached as Appendix A to the filing, to become effective May 1, 2003 and June 1, 2003.

Dominion Cove Point states that the purpose of the filing is to reflect Dominion Cove Point's name change.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 28, 2003.

Magalie R. Salas,
Secretary.

[FR Doc. 03-9904 Filed 4-21-03; 8:45 am]

BILLING CODE 6717-01-P